DEPARTMENT OF TRANSPORTATION

Federal Aviation Administration

14 CFR Part 39

[Docket No. FAA-2010-1312; Directorate Identifier 2010-NM-220-AD]

RIN 2120-AA64

Airworthiness Directives; The Boeing Company Model 777-200, -200LR, -300, and -300ER Series Airplanes

AGENCY: Federal Aviation Administration (FAA), DOT.

ACTION: Notice of Proposed Rulemaking (NPRM).

SUMMARY: We propose to adopt a new airworthiness directive (AD) for the products listed above. This proposed AD would require installing foreign object debris (FOD) rubber shields over the primary and secondary external power connectors for certain airplanes, and wrapping fire-resistant silicone tape around the hydraulic tube for certain other airplanes. This proposed AD was prompted by a report of a fire in the main equipment center due to failure of an external power connector, which caused high-temperature arcing and subsequent splatter of molten copper on an adjacent hydraulic tube, creating a hole in the tube and spraying hydraulic fluid into the power connector, resulting in a fire. In addition there were several reports of overheating or arcing of external power connectors, and one report of a fire due to arcing caused by FOD. We are proposing this AD to prevent FOD from entering the primary and secondary external power connectors, which could result in overheating or arcing and consequent fire in the main equipment center.

DATES: We must receive comments on this proposed AD by March 4, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Boeing Commercial Airplanes, Attention: Data & Services Management, P. O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Georgios Roussos, Aerospace Engineer, Systems and Equipment Branch, ANM-130S, FAA, Seattle Aircraft Certification Office, 1601 Lind Avenue, SW., Renton, Washington 98057-3356; telephone (425) 917-6482; fax (425) 917-6590; e-mail: georgios.roussos@faa.gov.

SUPPLEMENTARY INFORMATION:

Comments Invited

We invite you to send any written relevant data, views, or arguments about this proposal. Send your comments to an address listed under the ADDRESSES section. Include “Docket No. FAA-2010-1312; Directorate Identifier 2010-NM-220-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report of a fire in the main equipment center due to failure of an external power connector, which caused high-temperature arcing and subsequent splatter of molten copper on an adjacent hydraulic tube, creating a hole in the tube and spraying hydraulic fluid into the power connector, resulting in a fire. In addition there were several reports of overheating or arcing of external power connectors, and one report of a fire due to arcing caused by FOD. During one incident a fire occurred on an airplane in the factory at the secondary external power connector location. Investigation revealed that the overheating and arcing events were caused by FOD; during a maintenance check a washer was found inside the external power connector. FOD in the primary and secondary external power connectors could result in overheating or arcing and consequent fire in the main equipment center.

Relevant Service Information

We reviewed Boeing Special Attention Service Bulletin 777-29-0032, dated August 9, 2007 (for Model 777-200, -200LR, -300, and -300ER airplanes); and Boeing Service Bulletin 777-24-0102, Revision 1, dated June 17, 2010 (for Model 777-200, -200LR, -300, and -300ER airplanes that require rubber FOD shields).

Boeing Special Attention Service Bulletin 777-29-0032, dated August 9, 2007, describes procedures for wrapping self-fusing fire-resistant silicone tape around the alternate extension hydraulic tube section of the nose landing gear adjacent to the P30 panel.

Boeing Service Bulletin 777-24-0102, Revision 1, dated June 17, 2010, describes procedures for installing new FOD rubber shields over the primary and secondary external power connectors at approximately station 350 in the main equipment center.

FAA's Determination

We are proposing this AD because we evaluated all the relevant information and determined the unsafe condition described previously is likely to exist or develop in other products of the same type design.

Proposed AD Requirements

This proposed AD would require accomplishing the actions specified in the service information described previously, except as discussed under “Difference Between the Proposed AD and the Service Information.”

Difference Between the Proposed AD and the Service Information

Boeing Service Bulletin 777-24-0102, Revision 1, dated June 17, 2010, does not provide a compliance time for installing new FOD rubber shields; however, this proposed AD requires that installation be done within 36 months after the effective date of this AD. We considered the manufacturer's recommendation that the compliance time coincide with the compliance time specified in Boeing Special Attention Service Bulletin 777-29-0032, dated August 9, 2007.

Costs of Compliance

We estimate that this proposed AD will affect 126 airplanes of U.S. registry.

We estimate the following costs to comply with this proposed AD:

Estimated Costs
Action | Labor cost | Parts cost | Cost per product | Number of airplanes affected | Fleet cost
Install FOD rubber shields | 6 work-hour × $85 per hour = $510 | $134 | $644 | 124 | $79,856
Wrap silicone tape | 2 work-hour × $85 per hour = $170 | $0 | $170 | 126 | $21,420

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2010-1312; Directorate Identifier 2010-NM-220-AD.

Comments Due Date

(a) We must receive comments by March 4, 2011.

Affected ADs

(b) None.

Applicability

(c) This AD applies to all The Boeing Company Model 777-200, -200LR, -300, and -300ER series airplanes; certificated in any category.

Subject

(d) Joint Aircraft System Component (JASC)/Air Transport Association (ATA) of America Codes 29: Hydraulic power; and 24: Electrical power.

Unsafe Condition

(e) This AD was prompted by a report of a fire in the main equipment center due to failure of an external power connector, which caused high-temperature arcing and subsequent splatter of molten copper on an adjacent hydraulic tube, creating a hole in the tube and spraying hydraulic fluid into the power connector, resulting in a fire. In addition there were several reports of overheating or arcing of external power connectors, and one report of a fire due to arcing caused by foreign object damage (FOD). We are issuing this AD to prevent FOD from entering the primary and secondary external power connectors, which could result in overheating or arcing, and consequent fire in the main equipment center.

Compliance

(f) Comply with this AD within the compliance times specified, unless already done.

Modification

(g) Within 36 months after the effective date of this AD, do the actions required by paragraphs (g)(1) and (g)(2) of this AD.

(1) For airplanes identified in Boeing Service Bulletin 777-24-0102, Revision 1, dated June 17, 2010: Install FOD rubber shields over the primary and secondary external power connectors, in accordance with the Accomplishment Instructions of Boeing Service Bulletin 777-24-0102, Revision 1, dated June 17, 2010.

(2) For airplanes identified in Boeing Special Attention Service Bulletin 777-29-0032, dated August 9, 2007: Wrap fire-resistant silicone tape around the hydraulic tube, in accordance with the Accomplishment Instructions of Boeing Special Attention Service Bulletin 777-29-0032, dated August 9, 2007.

Exception to Service Information

(h) Figure 1 of the Accomplishment Instructions of Boeing Special Attention Service Bulletin 777-29-0032, dated August 9, 2007, does not identify the dimensions of the electrical tape which is installed on the hydraulic tube; those dimensions should be measured in inches.

Credit for Actions Accomplished in Accordance With Previous Service Information

(i) Actions done before the effective date of this AD in accordance with Boeing Service Bulletin 777-24-0102, dated July 12, 2007, are acceptable for compliance with the corresponding requirements of this paragraph (g)(1) of this AD.

Alternative Methods of Compliance (AMOCs)

(j)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your Principal Maintenance Inspector or Principal Avionics Inspector, as appropriate, or lacking a principal inspector, your local Flight Standards District Office.

Related Information

(k) For more information about this AD, contact Georgios Roussos, Aerospace Engineer, Systems and Equipment Branch, ANM-130S, FAA, Seattle Aircraft Certification Office, 1601 Lind Avenue, SW., Renton, Washington 98057-3356; telephone (425) 917-6482; fax (425) 917-6590; e-mail: georgios.roussos@faa.gov.

(l) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Issued in Renton, Washington on January 10, 2011.
Ali Bahrami,
Manager, Transport Airplane Directorate, Aircraft Certification Service.

[FR Doc. 2011-876 Filed 1-14-11; 8:45 am]

BILLING CODE 4910-13-P